ENVIRONMENTAL PROTECTION AGENCY

[FRL-7882-8]

Science Advisory Board Staff Office, Clean Air Scientific Advisory Committee (CASAC), Notification of Public Advisory Committee Meeting (Teleconference)

AGENCY: Environmental Protection Agency (EPA).

ACTION: Notice.

SUMMARY: The Environmental Protection Agency (EPA or Agency) Science Advisory Board (SAB) Staff Office announces a public teleconference of the Clean Air Scientific Advisory Committee to conduct a consultation on the draft Project Work Plan for Revised Air Quality Criteria for Lead.

DATES: March 28, 2005. The teleconference meeting will be held on March 28, 2005, from 1 to 4 p.m. (Eastern Time).

FOR FURTHER INFORMATION CONTACT: Any member of the public who wishes to obtain the teleconference call-in numbers and access codes; would like to submit written or brief oral comments (five minutes or less); or wants further information concerning this teleconference meeting, must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: Background: The CASAC, which comprises seven members appointed by the EPA Administrator, was established under section 109(d)(2) of the Clean Air Act (42 U.S.C. 7409) as an independent scientific advisory committee, in part to provide advice, information and recommendations on the scientific and technical aspects of issues related to air quality criteria and national ambient air quality standards (NAAQS) under sections 108 and 109 of the Act. The CASAC, which is administratively located under the SAB Staff Office, is a Federal advisory committee chartered under the Federal Advisory Committee Act (FACA), as amended, 5 U.S.C., App. The CASAC complies with the provisions of FACA and all appropriate SAB Staff Office procedural policies.

The Clean Air Act requires periodic update of the Air Quality Criteria Document (AQCD) for Lead. Air quality criteria documents for the “criteria” air pollutants for which national ambient air quality standards are established provide the scientific bases for these NAAQS and are to reflect the latest scientific information useful in indicating the kind and extent of all identifiable effects on public health or welfare that may be expected from the presence of such a criteria air pollutant. The previous version of the AQCD for Lead was completed in 1986, with a Supplement completed in 1990. EPA's National Center for Environmental Assessment, Research Triangle Park, NC (NCEA-RTP), completed the Project Work Plan for the current revision of the Lead AQCD and released it for public comment in January 2005. EPA has prepared this Project Work Plan for Revised Air Quality Criteria for Lead to communicate the process and timeline for development of a revised AQCD for Lead.

Technical Contact: Any questions concerning EPA's Project Work Plan for Revised Air Quality Criteria for Lead should be directed to Dr. Robert Elias, NCEA-RTP, at phone: (919) 541-4167; or e-mail: elias.robert@epa.gov.

Availability of Meeting Materials: NCEA-RTP has posted the draft Project Work Plan for Revised Air Quality Criteria for Lead on the National Center for Environmental Assessment Web site at URL: http://cfpub.epa.gov/ncea/cfm/recordisplay.cfm?deid=113963. In addition, the SAB Staff Office will post a copy of the final agenda for this teleconference consultative meeting on the SAB Web site at: http://www.epa.gov/sab (under “Meeting Agendas”) in advance of the CASAC teleconference.

Providing Oral or Written Comments at SAB Meetings: It is the policy of the SAB Staff Office to accept written public comments of any length, and to accommodate oral public comments whenever possible. The SAB Staff Office expects that public statements presented at its meetings or teleconferences will not be repetitive of previously-submitted oral or written statements. Oral Comments: In general, each individual or group requesting an oral presentation at a meeting or teleconference will be limited to a total time of five minutes (unless otherwise indicated). Requests to provide oral comments must be in writing (preferably via e-mail) and received by Mr. Butterfield no later than noon Eastern Time five business days prior to the meeting or teleconference in order to reserve time on the meeting agenda. Written Comments: The SAB Staff Office accepts written comments until the date of the meeting or teleconference (unless otherwise stated). Copies of both oral and written public comments and other presentation materials should be provided to Mr. Butterfield (preferably via e-mail) at the address/contact information noted above, as follows: One hard copy with original signature, and one electronic copy via e-mail (acceptable file format: Adobe Acrobat PDF, WordPerfect, MS Word, MS PowerPoint, and Rich Text files (in IBM-PC/Windows 98/2000/XP format)). All comments should be received in the SAB Staff Office no later than noon Eastern Time five business days prior to the meeting or teleconference so that these comments may be made available to the CASAC for their consideration.

Dated: February 28, 2005.
Richard Albores,
Acting Director, EPA Science Advisory Board Staff Office.

[FR Doc. 05-4583 Filed 3-8-05; 8:45 am]

BILLING CODE 6560-50-P